DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before March 17, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on February 7, 2023.
Donald P. Burger,
Chief, General Approvals and Permits Branch.

Application No. | Applicant | Regulation(s) affected | Nature of the special permits thereof
Special Permits Data
21499-N | Pollution Control Inc | 172.320, 173.56(b) | To authorize the transportation in commerce of an explosive for the that has not been examined and classified in accordance with 49 CFR 173.56(b). (mode 1)
21500-N | American Ecycle Inc | 173.185(f) | To authorize the transportation in commerce of damaged lithium ion batteries in alternative packaging for destruction or recycling. (mode 1)
21501-N | Luxfer Inc | 173.301(f), 173.302(a) | To authorize the manufacture, mark, sale, and use of a non-DOT specification fully wrapped fiber reinforced composite gas cylinder with a non-load sharing plastic liner that meets the ISO 11119-3 standard except for the design water capacity and working pressure. (modes 1, 2, 3, 4)
21504-N | Construction Helicopters, Inc | 172.101(j), 173.27(b)(2) | To authorize the transportation in commerce of Division 1.1, 1.2, 1.3 and 1.4 explosives, which are forbidden or exceed quantities authorized for transportation via cargo-only aircraft. (mode 4)
21509-N | KULR Technology Corporation | 173.6(a)(1), 173.6(d) | To authorize the transportation in commerce of lithium batteries as Materials of Trade when the quantities of batteries exceed the limitation specified in 173.6. (mode 1)
21510-N | ENK Co. Ltd | 173.302a(b)(2), 173.302a(b)(3), 173.302a(b)(4), 173.302a(b)(5), 180.205(c), 180.205(f), 180.205(i), 180.209(a), 180.213 | To authorize the transportation in commerce of certain gases in DOT 3AA, 3AA, or 3T cylinders. The cylinders are retested by acoustic emission and ultrasonic examination (AE/UE) described in paragraph 7 below in place of the internal visual inspection and the hydrostatic retest required in § 180.205. (modes 1, 2, 3, 4, 5)
21512-N | KLA Corporation | 171.1 | To authorize the transportation in commerce of a Division 4.1 flammable solid within an article as no subject to the requirements of the Hazardous Materials Regulations. (modes 1, 3, 4, 5)
21513-N | The Chemours Company Fc LLC | 173.301(f)(2), 177.840(a)(1) | To authorize the transportation in commerce of certain Division 2.1 gases in cylinders without the pressure relief device (PRD) being in communication with the vapor space. (mode 1)
21517-N | Bayerische Motoren Werke Aktiengesellschaft | 172.101(j) | To authorize the transportation in commerce of lithium batteries exceeding 35 kg via cargo-only aircraft. (mode 4)
21518-N | Bedrock Ocean Exploration, PBC | 172.101(j) | To authorize the transportation in commerce of prototype lithium batteries exceeding 35 kg via cargo-only aircraft. (mode 4)

[FR Doc. 2023-03208 Filed 2-14-23; 8:45 am]

BILLING CODE P